DEPARTMENT OF DEFENSE

Department of the Air Force

Extension of Public Comment Period for the Proposed White Elk Military Operations Area Draft Environmental Impact Statement

ACTION: Extension of Public Comment Period for the Proposed White Elk Military Operations Area Draft Environmental Impact Statement.

SUMMARY: Pursuant to the National Environmental Policy Act (NEPA) of 1969, as amended (42 U.S.C. 4321, et seq.), the Council on Environmental Quality Regulations for implementing the procedural provisions of NEPA (40 Code of Federal Regulations (CFR) Parts 1500-1508), and Air Force's Environmental Impact Analysis Process as implemented by 32 CFR Part 989, the United States Air Force (Air Force) is issuing this notice to advise the public of our intent to provide an extension of the public comment period for the Proposed White Elk Military Operations Area (MOA) Draft Environmental Impact Statement (EIS).

The original comment period was scheduled to close on 29 September 2008 (Federal Register: August 15, (Volume 73, Number 159) [Notices] [Page 47948-47949]. The comment period now ends on 13 November 2008.

FOR FURTHER INFORMATION CONTACT: Please submit written comments to Ms. Sheryl Parker, White Elk MOA EIS Project Manager, HQ ACC/A7PP, 129 Andrews St., Ste. 122, Langley AFB, VA 23665-5399. For additional information, please contact Ms. Barbara Fisher at 75 ABW Public Affairs Office, Hill AFB, Utah, at (801) 775-3652.

Bao-Anh Trinh,
Air Force Federal Register Liaison Officer.

[FR Doc. E8-23859 Filed 10-7-08; 8:45 am]

BILLING CODE 5001-05-P